FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 10, 2018.

A. Federal Reserve Bank of Chicago (Colette A. Fried, Assistant Vice President) 230 South LaSalle Street, Chicago, Illinois 60690-1414:

1. David Phelps, individually and as part of a group acting in concert with The George W. Phelps Bank Stock Trust, George Phelps, Trustee; The Linda K. Phelps Bank Stock Trust, Linda K. Phelps, Trustee; The Robert B Phelps Bank Stock Trust, Robert B Phelps, Trustee; The Carol Phelps Bank Stock Trust, Carol Phelps, Trustee; Alison Hoogeveen; and Scott Phelps, all of Kingsley, Iowa; and Robert W. Phelps, Milwaukee, Wisconsin; to join the Phelps Family Control Group as approved in 1985 and retain control of Kingsley Banc Corp and thereby indirectly control Kingsley State Bank, both in Kingsley, Iowa.

Board of Governors of the Federal Reserve System, September 20, 2018.
Yao-Chin Chao,
Assistant Secretary of the Board.

[FR Doc. 2018-20830 Filed 9-24-18; 8:45 am]

BILLING CODE P